DEPARTMENT OF COMMERCE

National Oceanic and Atmospheric Administration

Request for Comments on the President's Conservation Measures and Proposal To Make Permanent the Reserve Preservation Areas in the Northwestern Hawaiian Islands Coral Reef Ecosystem Reserve

AGENCY: National Oceanic and Atmospheric Administration, Department of Commerce (DOC).

ACTION: Request for comments; notice of public hearings.

SUMMARY: On December 4, 2000, President William Jefferson Clinton signed Executive Order 13178 establishing the Northwestern Hawaiian Islands Coral Reef Ecosystem Reserve (Reserve), pursuant to the National Marine Sanctuaries Amendments Act of 2000 (Act). As part of the establishment of the Reserve, the President established certain conservation measures that restrict activities throughout the Reserve and created Reserve Preservation Areas around various islands and banks within the Reserve where consumptive or extractive uses are prohibited except as otherwise specified in the Executive Order. Under the Act, closure areas may become permanent after adequate public review and comment. Through this notice, the President is seeking public comment on making the Reserve Preservation Areas permanent. The President is also seeking public comment on the conservation measures established for the Reserve. These measures are to provide strong and lasting protection for the coral reef ecosystem and related marine resources and species of the Reserve (Reserve resources). The public may submit written comments to the Secretary of Commerce on the President's behalf. The President has also directed the Secretary to hold seven (7) public hearings to accept written and oral comments on his behalf.

DATES: Comments will be considered if postmarked no later than January 8, 2001.

ADDRESSES: Comments may be mailed to Roger Griffis, NOAA, Office of Policy and Strategic Planning, Room 6117, 14th & Constitution Ave NW, Washington, D.C. 20230-0001 or faxed to (301) 713-4306. Comments can also be submitted electronically via the website at hawaiireef.noaa.gov, or by email to hawaiicomments@noaa.gov.

FOR FURTHER INFORMATION CONTACT: For further information, or to request an information packet on the President's proposal, please contact Roger Griffis at (866) 616-3605, or visit the web site at hawaiireef.noaa.gov

SUPPLEMENTARY INFORMATION: On December 4, 2000 President William Jefferson Clinton signed Executive Order 13178 establishing the Northwestern Hawaiian Islands Coral Reef Ecosystem Reserve, pursuant to section 6 of the National Marine Sanctuaries Amendments Act of 2000 (Act), Pub. L. 106-513 (11/13/00). The Reserve encompasses an area of the marine waters and submerged lands of the Northwestern Hawaiian Islands extending approximately 1200 nautical miles long and 100 nautical miles wide. The Reserve is adjacent to and seaward of the boundary of Hawaii State waters and submerged lands and the Midway Atoll National Wildlife Refuge, and includes the Hawaiian Islands National Wildlife Refuge to the extent it extends beyond Hawaii State waters and submerged lands. The Reserve will be managed by the Secretary of Commerce, or his or her designee (hereafter “Secretary”) under the National Marine Sanctuaries Act and the Executive Order. The Secretary will also initiate the process to designate the Reserve as a National Marine Sanctuary. The management principles and implementation strategy and requirements for the Reserve are found in the Executive Order that is part of the information package that may be obtained at the address above, or can be found on the web site listed above.

Conservation Measures

The Executive Order contains the following conservation measures that apply throughout the Reserve.

Commercial Fishing. The order provides that all currently existing commercial federal fishing permits and current levels of fishing effort and take, as determined by the Secretary and pursuant to regulations in effect on the date of this order shall be capped as follows:

• No commercial fishing may occur in Reserve Preservation Areas, except as expressly allowed in the Executive Order;

• There shall be no increase in the number of permits of any particular type of fishing (such as for bottomfishing) beyond the number of permits of that type in effect the year preceding the date of the Executive Order;

• The level of aggregate take under all permits of any particular type of fishing may not exceed the aggregate level of take under all permits of that type of fishing over the year preceding the date of this order, as determined by the Secretary, provided that the Secretary shall equitably divide the aggregate level into individual levels per permit, and further provided that the Secretary may make a one-time reasonable increase to the total aggregate to allow for the use of two Native Hawaiian bottomfishing permits;

• There shall be no permits issued for any particular type of fishing for which there were no permits issued in the year preceding the date of the Executive Order;

• The type of fishing gear used by any permit holder may not be changed except as provided below.

Recreational Fishing—All currently existing (preceding the date of the Executive Order) levels of recreational fishing effort, as determined by the Secretary and pursuant to regulations in effect on the day of this order, shall be capped (i.e., no increase of take levels or levels of fishing effort, species targeted, or change in gear types) throughout the Reserve. However, fishing is further restricted in Reserve Preservation Areas.

The Secretary, after consultation with the Secretary of the Interior and Governor of the State of Hawaii, and after public review and comment and consideration of any advice or recommendations of the Reserve Council and Western Pacific Regional Fishery Management Council, may further restrict fishing activities if necessary to protect Reserve resources, or may authorize or require alternate gear types if such gear would offer equal or greater protection for Reserve resources.

In addition to the conservation measures described above, the following activities are prohibited throughout the Reserve:

(1) Exploring for, developing, or producing oil, gas or minerals;

(2) Having a vessel anchored on any living or dead coral with an anchor, anchor chain, or anchor line/rope when visibility is such that the seabed can be seen;

(3) Drilling into, dredging or otherwise altering the seabed; or constructing, placing or abandoning any structure, material or other matter on the seabed, except as an incidental result of anchoring vessels;

(4) Discharging or depositing any material or other matter into the Reserve, or discharging or depositing any material or other matter outside the Reserve that subsequently enters the Reserve and injures any resource of the Reserve, except fish parts (i.e., chumming material or bait) used in and during authorized fishing operations, or discharges incidental to vessel use such as deck wash, approved marine sanitation device effluent, cooling water and engine exhaust; and

(5) Removing, moving, taking, harvesting, or damaging any living or non-living Reserve resource, except as described above, in certain Reserve Preservation Areas, and for Native Hawaiian non-commercial subsistence, cultural or religious uses as described below.

The Executive Order provides that the Secretary may conduct, or authorize by permit, activities listed in paragraphs (3)-(5) above necessary for research, monitoring, education, or management activities that further the Management Principles of the Executive Order.

Reserve Preservation Areas

In addition to the Reserve-wide conservation measures, the Executive Order establishes fifteen (15) Reserve Preservation Areas where all consumptive activities are prohibited except as expressly provided in the Executive Order. These areas provide a greater level of protection to the coral reef ecosystem resources in certain areas in the Reserve. The President has proposed to make these Reserve Preservation Areas permanent. The Executive Order establishes the Reserve Preservation Areas as follows:

1. From the seaward boundary of Hawaii State waters and submerged lands to a mean depth of 100 fathoms around—

A. Nihoa Island, provided that bottomfishing in accordance with the conservation measures described above shall be allowed to continue seaward of a mean depth of 10 fathoms, unless and until the Secretary determines otherwise after adequate public review and comment;

B. Necker Island, provided that bottomfishing in accordance with the conservation measures described above shall be allowed to continue seaward of a mean depth of 20 fathoms, unless and until the Secretary determines otherwise after adequate public review and comment;

C. French Frigate Shoals;

D. Gardner Pinnacles, provided that bottomfishing in accordance with the conservation measures described above shall be allowed to continue seaward of a mean depth of 10 fathoms, unless and until the Secretary determines otherwise after adequate public review and comment;

E. Maro Reef, provided that bottomfishing in accordance with the conservation measures described above shall be allowed to continue seaward of a mean depth of 20 fathoms, unless and until the Secretary determines otherwise after adequate public review and comment;

F. Laysan Island, provided that bottomfishing in accordance with the conservation measures described above shall be allowed to continue seaward of a mean depth of 50 fathoms, unless and until the Secretary determines otherwise after adequate public review and comment;

G. Lisianski Island, provided that bottomfishing in accordance with the conservation measures described above shall be allowed to continue seaward of a mean depth of 50 fathoms, unless and until the Secretary determines otherwise after adequate public review and comment;

H. Pearl and Hermes Atoll; and

I. Kure Island.

2. 12 nautical miles around the approximate geographical centers of—

A. The first bank immediately east of French Frigate Shoals;

B. Southeast Brooks Bank, which is the first bank immediately west of French Frigate Shoals, provided that the closure area shall not be closer than approximately 3 nautical miles of the next bank immediately west;

C. St. Rogatien Bank, provided that the closure area shall not be closer than approximately 3 nautical miles of the next bank immediately east, provided further that bottomfishing in accordance with the conservation measures described above shall be allowed to continue, unless and until the Secretary determines otherwise after adequate public review and comment;

D. The first bank west of St. Rogatien Bank, east of Gardner Pinnacles;

E. Raita Bank; and

F. Pioneer Bank, provided that bottomfishing in accordance with the conservation measures described above shall be allowed to continue, unless and until the Secretary determines otherwise after adequate public review and comment.

In addition to the conservation measures (described above) that apply throughout the Reserve, the Executive Order provides that the following activities are prohibited within the Reserve Preservation Areas.

(1) Commercial and recreational fishing (except existing bottomfishing where expressly allowed in the Executive Order as indicated above);

(2) Anchoring in any area that contains available mooring buoys, or anchoring outside an available anchoring area when such area has been designated by the Secretary;

(3) Any type of touching or taking of living or dead coral;

(4) Discharging or depositing any material or other matter except cooling water or engine exhaust; and

(5) Such other activities the Secretary identifies after adequate public review and comment, and after consideration of any advice and recommendations of the Reserve Council.

The Executive Order provides that the Secretary may conduct, or authorize by permit, research, monitoring, education or management activities within any Reserve Preservation Area that further the Management Principles of section 4 of the Executive Order.

The Executive Order provides that Native Hawaiian non-commercial subsistence, cultural, or religious uses may continue, to the extent consistent with existing law, within the Reserve and Reserve Preservation Areas. The Secretary shall work with Native Hawaiian interests to identify those areas where such Native Hawaiian uses of the Reserve's resources may be conducted without injury to the Reserve's coral reef ecosystem and related marine resources and species, and may revise the areas where such activities may occur after public review and comment and consideration of any advice and recommendations of the Reserve Council.

The Executive Order provides that the Reserve Preservation Areas are approximated using fathoms, but the Secretary will develop straight-line boundaries in longitude and latitude coordinates to clearly encompass each Reserve Preservation Area and to provide clarity and ease of identification. The Secretary may make technical modifications to any such boundaries.

The following are individual descriptions of the Reserve Preservation Areas and the resources that are protected within each area.

NIHOA Island Reserve Preservation Area

Nihoa Island, also known as Bird Island, lies 130 miles (245 km) northwest of Nihau. With about 170 acres of land, it is the largest volcanic island in the northwestern chain. The island is characterized by steep slopes and sheer sea cliffs, which are clearly visible from a distance. Nihoa's submerged coral reef habitat totals approximately 142,000 acres and is the remnant of a former volcanic cone. The northern edge of the reef is a steep cliff made up of successive layers of lava through which numerous volcanic extrusions (dikes) are visible.

Nihoa supports coral communities with very limited total habitat, most of which is not protected from the heavy and chronic wave action that strikes this small island from all directions. These habitats consist of the submerged portions of sea cliffs close to shore, caves & lava tubes, ledges, overhangs, basalt pinnacles, boulders, cobbles, sand deposits, basalt benches & slopes, trenches and shelves. All of these features have been shaped by and are constantly eroded by the pounding waves. The rigorous environment and isolated nature of Nihoa has limited the number of corals that have successfully colonized the shallow habitats encircling the island. Due to the scouring effects of sand and turbulent waves, most of the 20 species of corals only survive at depths greater than 30 feet and nowhere is coral cover greater than 25%.

Although corals are not abundant in the shallow waters around Nihoa, reef fish sharks, jacks, monks seals and other predators are common to the island. Due to a limited number of habitat types, however, species diversity of reef fishes is low when compared to other atolls and islands in the NWHI chain. Although Nihoa was inhabited during the 16th century, human disturbances have been minimal in the nearshore waters around the island in recent times.

The Hawaiian Islands National Wildlife Refuge is currently administered out to 10 fathoms at Nihoa Island.

Necker Island Reserve Preservation Area

Necker Island is a hook-shaped dry volcanic island that includes about 45 acres of land. More than 380,000 acres of coral reef habitat are associated with the island.

With regard to reef and coral development, Necker Island resembles Nihoa Island in several respects. Necker is a small island unable to buffer the impacts of strong waves that can break along the submerged shorelines from any direction. The effects of scour (surge combined with sand and other sediments) is evident from the wave-cut bench in West Cove and the deeply cut sand channels and chasms at several locations in deeper water. The concentration of living corals on elevated surfaces is a manifestation of corals surviving better in less scour-prone environments.

Although Necker is smaller than Nihoa, deeper coral reef shelf habitat surrounding Necker is more extensive. A broad shelf extends around the island, especially to the southeast, but is not shallow enough to protect the island from wave action. Nevertheless, the number of coral species at Necker is comparable to that of Nihoa (fewer than 20) and reflects the difficulty of corals colonizing and establishing permanent communities in shallow water. Reef growth, if any, around either island is minimal and both islands have experienced the punishing effects of large waves as demonstrated by the high wave cut sea cliffs above sea level and wave planed benches and shelves below sea level. With the exception of small amounts of fishing line, there is little evidence of any human effects on the reef environments of Necker Island.

Reef fishes at Necker appear healthy and abundant. Numerous grey reef sharks, giant Trevally jacks, gray snappers, monk seals and other predators have been sighted suggesting a good natural balance of the reef fish population. Several large manta rays have also been observed along with an abundance of limpets along the island's rocky surf zone.

The Hawaiian Islands National Wildlife Refuge is currently administered out to 20 fathoms at Necker Island.

French Frigate Shoals Reserve Preservation Area

French Frigate Shoals (FFS) is an 18 mile (34 km) wide, crescent-shaped atoll. It is approximately 1,330 km northwest of Honolulu and approximately 1,300 km southeast of Kure Atoll. The Shoals' lagoon contains two exposed volcanic rocks and 12 low sandy islets. About 67 acres of land and 230,000 acres of coral reef habitat are associated with FFS which makes it the largest atoll in the Northwestern Hawaiian Islands.

The substrates of the atoll are predominantly reef carbonates and provides for abundant coral reef habitats such as deep ocean reef slopes, ocean reef terraces, spurs and grooves and shallow perimeter reef flats.

The Shoals' semi-enclosed lagoon affords corals protection from the destructive effects of storms and waves and provides many other important reef habitats missing from exposed ocean reef environments. Dominated by algae, rubble and sand deposits, the lagoon also contains numerous pinnacles, mounds, and platforms.

Recent surveys have shown that wave action, large ocean swells and periodic storms often impact FFS coral development and tend to control extensive reef growth. Yet, due to the complexity and quantity of its habitats, coral diversity and abundance is spectacular at the atoll. The best coral development occurs near the lagoon ends of the reef where exposure to waves and storms is reduced and where the influx of clean ocean water promotes habitat diversity and good water quality. Poorer reef habitats were concentrated in the shallow eastern lagoon, which is dominated by shallow sediment deposits, strong currents, high turbidity, and poor water quality.

Because FFS is close to Johnston Atoll, where table coral species are abundant, it may be serving as the “stepping stone” for the recruitment of table corals (Acropora) in the Hawaiian Islands. Although in lesser abundance, four other islands near FFS (Necker Island, Gardner Pinnacles, Maro Reef, and Laysan Island) also support Acropora. FFS may be responsible for the distribution table coral as far as Kauai as well, where populations of Acropora, have also been recently reported.

Derelict fishing gear and other types of marine debris are, however, having a major impact on the reefs and associated fauna of the atoll, notably monk seals. Over the past several years, efforts have been undertaken to lessen the threat of this growing problem.

The Hawaiian Islands National Wildlife Refuge is currently administered out to 10 fathoms at French Frigate Shoals.

Gardner Pinnacles Reserve Preservation Area

Gardner Pinnacles consists of two volcanic peaks and spans 5 acres in total. The peaks frosted appearance indicates their importance as a roosting site and breeding habitat for 12 species of tropical seabirds. About 600,000 acres of coral reef habitat surround the pinnacles and consists mostly of relatively flat banks in the 15 to 20 fathom (30 to 40 meter) depth range. Very little survey work has been conducted over the banks surrounding Gardner, but the few observations that have been made suggest a mostly sand and algal bottom with occasional rock outcroppings.

The ocean environment at Gardner Pinnacles is turbulent most of the time and the two small islands do not offer much protection from the area's heavy waves and currents. Coral at the Pinnacles is more abundant on elevated surfaces and behind rises or mounds that are protected from wave action. The high diversity of corals reflects the variety of habitats at the Pinnacles, while its low abundance reflects the wave and scour-controlled nature of the environment. The lack of shallow water environments around the Pinnacles limits the number of reef building species that can survive the conditions at the reefs and powerful wave action reduces the growth rate of corals, coralline algae, and other reef-building organisms.

Based on occasional visual observations and satellite tag tracking data, it is known that a few monk seals haul out on Gardner's rock ledges and forage over the surrounding banks.

The Hawaiian Islands National Wildlife Refuge is currently administered out to 10 fathoms at Gardner Pinnacles.

Maro Reef Reserve Preservation Area

Maro Reef is a largely submerged atoll, with no more than 1 acre of emergent land but about 475,000 acres of underwater coral reef habitat. Except for birds, there are no terrestrial species inhabiting the island.

Maro Reef consists of numerous coral heads and rocks amid sandy flats and channels at depths of 1 to 10 fathoms. Extensive surveys and ecological assessments conducted from the NOAA ship Townsend Cromwell in 2000 revealed a unique and complex reef consisting of intertwined reef spurs radiating outward from a series of lagoons. Maro's corals and coralline algae are healthy, diverse, and contribute to active reef growth on all of the island's outer barrier reefs. The coral structures of the outer barriers have much higher vertical relief than observed at French Frigate Shoals or any other NWHI atolls with coral heads. This amazing feature, along with the reef's healthy coral and algal cover and excellent visibility make the outer barriers of Maro among the more beautiful regions of the NWHI Reserve.

The series of central lagoons are noticeably different from all other lagoons surveyed at the NWHI. Tall columns of coral covered with algal turf rise from about 20 meters below sea level to about 5 meters from the water's surface. Lagoon bottoms are generally highly silty and sandy.

The deeper banks (10 to 20 fathoms, 20 to 40 meters) surrounding the shallow water reefs have also undergone extensive surveys. Like Necker Island and the Gardner Pinnacles, these relatively flat areas consist primarily of sand and algal beds with occasional rock outcroppings.

Maro Reef provides very few areas for monk seals to haul out and therefore is not considered a breeding area for the species. Monk seals are, however, occasionally seen foraging around the reef. Derelict fishing gear and other types of marine debris are, however, having a major impact on the shallow reefs and associated fauna of Maro Reef.

Laysan Island Reserve Preservation Area

Laysan Island, located approximately 1,418 km northwest of Honolulu, is the largest island in the Reserve with about 1,000 acres of land. Laysan is roughly rectangular in shape and about 3.6 sq. km in area with a large saltwater lagoon occupying about one-fifth of the island's central depression. It is well vegetated (except for its sand dunes) and contains a hyper-saline lake, which is one of only five natural lakes in the State of Hawaii.

Laysan's coral reef habitat totals approximately 145,000 acres. The fringing reef surrounding the island varies from 100 to 500 m in width and is most extensive at the northwest end of the island. Inside the reef is a narrow, shallow channel which nearly encircles the island except for the south and southeast sides.

Despite lacking much protection from the detrimental effects of waves, Laysan supports a surprisingly rich coral environment with good development along its leeward coasts. The small back reef, pass and moat near the island's western boat landing also help to diversify habitats and the number of coral species inhabiting them. Today, coral and reef growth appear to be healthy. Of interest is the fact that the table coral Acropora can be found off Laysan, which makes it the northernmost island or atoll in the Northwestern Hawaiian Islands chain that supports this particular species.

Laysan Island is one of the endangered monk seal's primary breeding sites. It also supports a very healthy reef fish abundance and diversity. Derelict fishing gear and other types of marine debris are, however, having a major impact on the reefs and associated fauna of the island. Over several years, efforts have been undertaken to lessen the threat of this growing problem.

The Hawaiian Islands National Wildlife Refuge is currently administered out to 10 fathoms at Laysan Island.

Lisianski Island Reserve Preservation Area

Lisianski Island is a low sand and coral island with about 400 acres of land. It lies at the northern end of Neva Shoals, a large reef bank spanning about 65 square miles and totaling about 310,000 acres.

Lisianski Island is a low sand and coral island with about 400 acres of land. It lies at the northern end of Neva Shoals, a large reef bank spanning about 65 square miles and totaling about 310,000 acres.

The island is ringed mostly by sandy and sand-coral beaches with the exception of the eastern side which is dominated by an exposed ledge of reef rock and small tidal pools. A small cove present near the middle of the west beach is designated as a small boat landing on hydrographic charts. West of this landing, there are large numbers of coral heads in the lagoon, which has low visibility and a highly silty bottom.

Reef fish diversity and abundance at Lisianski appear healthy and robust as indicated by high numbers of Trevally jacks and other large marine predators. Interestingly, in a recent survey of the island it was noted that the jacks were particularly aggressive towards divers and small boats, a phenomenon that was not experienced at any of the other islands and atolls in the Reserve.

Green sea turtles can also be found on Lisianski Island as well as Hawaiian monk seals, which use the island's beaches as haul out grounds.

The Hawaiian Islands National Wildlife Refuge is currently administered out to 10 fathoms at Lisianski Island.

Pearl and Hermes Atoll Reserve Preservation Area

Pearl and Hermes Atoll is a large, low atoll with several small islets forming about 80 acres of land and almost 200,000 acres of coral reef habitat. It is approximately 2,090 km northwest of Honolulu and 140 km east-southeast of Midway Atoll. The fringing reef is roughly 69 km in circumference and open to the west. The islets are periodically washed over when winter storms pass through.

The lagoon of the atoll is large and it is difficult to draw generalizations regarding the abundance and distribution of corals and reefs. Many areas of the shallow lagoon reef holes appear to be dominated by sediments while water circulation and exchange rates may be a factor in dictating coral development. Where circulation is sluggish, water temperatures rise during sunlit hours and may be unfavorable to corals. In contrast, where there is good mixing within pockets of the lagoon, either from tidal exchange or wave set up along the windward reefs, there are more favorable conditions for corals. Pinnacle reefs are exposed to the best of two worlds: better access to ocean water exchange and protection from the damaging effects of storms and large waves. At Pearl and Hermes, the pinnacle reefs show both high coral cover and diversity.

Healthy spur-and-groove development along more exposed reefs is evidence that the atoll is growing. The spur and groove habitat of the north and northwest outer barrier reefs is unique among NWHI atolls in that it contains extremely deep and narrow canyons. Some semi-protected southern-facing reefs of the atoll did not display-spur and-grooves and may be growing at slower rates or not at all. The outer reef slopes of the south shore contain numerous large holes and caves, which contribute to spectacular abundance and diversity of fish at the atoll.

Pearl and Hermes has a moderately diverse assemblage of coral species, although not as high as reported for the other large atoll French Frigate Shoals. This may be attributed to the lack of table coral (Acropora) at Pearl and Hermes and up to six or more species being present at French Frigate Shoals.

Derelict fishing gear and other types of marine debris are, however, having a major impact on the reefs and associated fauna of the atoll. Over the past three years, efforts have been undertaken to lessen the threat of this growing problem.

The Hawaiian Islands National Wildlife Refuge is currently administered out to 10 fathoms at Pearl and Hermes Atoll.

Kure Island Reserve Preservation Area

Kure Island is the northernmost coral atoll in the world. The atoll is nearly circular with a 6-mile (10 km) diameter, enclosing about 200 acres of emergent land. The outer reef almost completely encircles the atoll's lagoon except for passages to the southwest. The only permanent land in the atoll is crescent-shaped Green Island, located near the fringing reef in the southeastern part of the lagoon. Almost 80,000 acres of coral reef habitat are found at Kure.

Kure is a healthy growing atoll with diverse and abundant coral assemblages. Virtually all spur-and-groove formations are robust and healthy. At the north and northwest outer barrier reefs, the spur-and-groove habitat is widely separated and looks like rolling hills when compared to the steep canyons of Pearl and Hermes Atoll. Some of Kure's lagoon reefs display exceptional coral development. Back reef environments also appear to support diverse and vigorous coral growth and provide strong evidence that the hard reef is growing.

Whereas coral cover is generally low, the atoll's coral diversity is as high as any other site except French Frigate Shoals. The combination of temperature, light constraints and water conditions at Kure all contribute to a flourishing reef environment and, like Midway and Pearl & Hermes Atolls, Kure is situated far enough north that it receives increased amounts of nutrients as the subtropical front migrates south during the winter.

Kure supports unique fish and dolphin populations while nurturing monk seals with the many lobsters that occupy the well-circulated lagoon.

Derelict fishing gear and other types of marine debris are, however, having a major impact on the reefs and associated fauna of the atoll. Over the past year, efforts have been undertaken to lessen the threat of this growing problem.

“The Banks” Reserve Preservation Areas

The NWHI area contains several seamounts that are commonly referred to as “the Banks.” For present purposes, the Banks consist of Raita Bank; St. Rogatien Bank; the first bank west of St. Rogatien Bank and east of Gardner Pinnacles (Bank Number 7, which remains unnamed); Pioneer Bank; Southeast Brooks Bank, which is the first bank immediately west of French Frigate Shoals; and the first bank immediately east of French Frigate Shoals.

On Raita Bank the approximate minimum depth is 9 fathoms (18 meters). It is oval shaped and extends approximately 20 km NE-SW and 10 km NW-SE. The bank west of St. Rogatien lies at about 30 fathoms (60 meters) and is approximately 5 km in diameter. Pioneer Bank is another oval seamount that sits at about 17 fathoms (34 meters) and extends 20 km E-W and 11 km N-S. At St. Rogatien Bank, the top of the seamount is covered by about 12 fathoms (24 meters) of water. It too is a large oval seamount and extends approximately 7 km E-W and 10 km N-S.

In general, all of the banks have very rough bottoms with numerous outcroppings, protuberances and rock areas. Endangered Hawaiian monk seals have been observed to forage in the areas around the banks, probably traveling from breeding populations at French Frigate Shoals.

The Executive Order provides that, consistent with applicable law, nothing in the Executive Order is intended to apply to military activities (to include the U.S. Coast Guard), including military exercise conducted within or in the vicinity of the Reserve, consistent with the requirements of Executive Orders 13089 (June 11, 1998), and 13158 (May 26, 2000). Further, nothing in the Executive Order is intended to restrict the Department of Defense from conducting activities necessary during time of war or national emergency, or when necessary for reasons of national security, consistent with applicable laws. In addition, consistent with applicable law, nothing in the Executive Order shall limit agency actions to respond to emergencies posing an unacceptable threat to human healthy and safety or to the marine environment and admitting of no other feasible solution.

Nothing in the Executive Order is intended to limit the authority of the U.S. Coast Guard to enforce any federal law, or install and maintain aids to navigation. Management of the Reserve shall be in accordance with generally recognized principles of international law, and in accordance with the treaties, conventions, and other agreements to which the United States is a party.

Public Comment

Through increased measures of protection, the conservation measures and Reserve Preservation Areas will provide lasting protection for the Reserve resources. The Act provides that no closure areas around the Northwestern Hawaiian Islands shall become permanent without adequate review and comment. Accordingly, the President is requesting public comment on the Reserve Preservation Areas and his proposal to make them permanent. The President is also requesting public comment on the conservation measures for the Reserve. The comment period for this proposal closes on January 8, 2001. NOAA is receiving the comments on behalf of the President. Comments may be sent, emailed or faxed to the location provided above. The Secretary will also host, on behalf of the President, seven public hearings, six in Hawaii and one in Washington D.C., to accept oral and written comments on the President's proposal. The dates, locations and times of these meetings are as follows.

Oahu

December 11, 6 p.m., Ala Moana Hotel B Garden Lanai, 410 Atkinson Drive, Honolulu, HI, Phone: 808-955-4811.

Kona

December 11, 6 p.m., King Kamehameha Hotel, 75-5660 Palani Road, Kailua-Kona, HI, Phone: 808-329-2911.

Hilo

December 12, 6 p.m., Hilo Cooperative Extension Service, 875 Komohana Street, Conference Room A, Hilo, HI, Phone: 808-959-9155.

Kauai

December 13, 6 p.m., Kauai War Memorial Convention Hall, Ballroom B, 4191 Hardy Street, Lihue, HI.

Washington, D.C.

December 13, 1 p.m., U.S. Department of Commerce, Room 4830, 14th & Constitution Avenue NW, Phone: 202-482-5181.

Maui

December 14, 6 p.m., Wailuku Community Center, 395 Waena Street, Wailuk, HI.

Molokai

December 15, 6 p.m., Mitchell Pauole Center, 90 Ainoa Street, Kaunakakai, HI, Phone: 808-553-3204.

Authority: Pub. L. 106-513; 16 U.S.C. Section 1431 et seq.

(Federal Domestic Assistance Catalog Number 11.429 Marine Sanctuary Program)
D. James Baker,
Under Secretary for Oceans and Atmosphere, National Oceanic and Atmospheric Administration.

[FR Doc. 00-31167 Filed 12-6-00; 8:45 am]

BILLING CODE 3510-08-P